DEPARTMENT OF TRANSPORTATION

Federal Aviation Administration

14 CFR Part 39

[Docket No. FAA-2011-0014; Directorate Identifier 2010-CE-066-AD; Amendment 39-16577; AD 2011-02-04]

RIN 2120-AA64

Airworthiness Directives; M7 Aerospace LP (Type Certificate Previously Held by Fairchild Aircraft Incorporated) Models SA26-AT, SA26-T, SA226-AT, SA226-T, SA226-T(B), SA226-TC, SA227-AC (C-26A), SA227-AT, SA227-BC (C-26A), SA227-CC, SA227-DC (C-26B), and SA227-TT Airplanes

AGENCY: Federal Aviation Administration (FAA), DOT.

ACTION: Final rule; request for comments.

SUMMARY: We are adopting a new airworthiness directive (AD) for the products listed above. This AD requires repetitively inspecting the cockpit heated windshields for damage and replacing damaged windshields. This AD was prompted by reports from the windshield manufacturer of inner glass ply fracture. We are issuing this AD to detect and correct damage to the cockpit heated windshield, which could result in failure of the windshield with consequent rapid cabin decompression and loss of control of the airplane.

DATES: This AD is effective January 24, 2011.

The Director of the Federal Register approved the incorporation by reference of certain publication listed in the AD as of January 24, 2011.

We must receive comments on this AD by February 28, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact M7 Aerospace LP, 10823 NE Entrance Road, San Antonio, Texas 78216; telephone: (210) 824-9421; Internet: http://www.m7aerospace.com. You may review copies of the referenced service information at the FAA, Small Airplane Directorate, 901 Locust St., Kansas City, Missouri 64016. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Hung Nguyen, Aerospace Engineer, Fort Worth Airplane Certification Office, FAA, 2601 Meacham Blvd., Fort Worth, Texas 76137-0150; phone: (817) 222-5155; fax: (817) 222-5960; e-mail: hung.v.nguyen@faa.gov.

SUPPLEMENTARY INFORMATION:

Discussion

We received reports from the windshield manufacturer of inner glass ply fractures found on 19 windshields over a 32-month period. As a result of the fractures, a windshield on one of the affected airplanes was reported to have failed completely.

This condition, if not corrected, could result in failure of the cockpit heated windshield, causing rapid cabin decompression and loss of control of the airplane.

Relevant Service Information

We reviewed M7 Aerospace Service Bulletins 26-56-001, 226-56-011, 227-56-012, and CC7-56-009, all dated December 1, 2010. These service bulletins describe procedures for repetitively inspecting the cockpit heated windshield for damage and replacing damaged windshields.

FAA's Determination

We are issuing this AD because we evaluated all the relevant information and determined the unsafe condition described previously is likely to exist or develop in other products of the same type design.

AD Requirements

This AD requires accomplishing the actions specified in the service information described previously, except as discussed under “Differences Between the AD and the Service Information.”

Interim Action

We consider this AD interim action. The design approval holder is currently developing a modification that will address the unsafe condition identified in this AD. Once this modification is developed, approved, and available, we might consider additional rulemaking.

FAA's Justification and Determination of the Effective Date

An unsafe condition exists that requires the immediate adoption of this AD. The FAA has found that the risk to the flying public justifies waiving notice and comment prior to adoption of this rule because this condition could result in failure of the cockpit windshield. This failure could lead to rapid cabin decompression and loss of control of the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-0014 and Directorate Identifier 2010-CE-066-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 362 airplanes of U.S. registry.

We estimate the following costs to comply with this AD:

Estimated Costs
Action | Labor cost | Parts cost | Cost per product | Cost on U.S. operators
Inspect the left-hand and right-hand cockpit heated windshield | 2 work-hours × $85 per hour = $170 per inspection cycle | Not applicable | $170 per inspection cycle | $61,540 per inspection cycle.

We estimate the following costs to do any necessary replacements that would be required based on the results of the inspection. We have no way of determining the number of aircraft that might need this replacement:

On-Condition Costs
Action | Labor cost | Parts cost | Cost per product
Replace/repair damaged windshield | 40 work-hours per windshield × $85 per hour = $3,400 per windshield | $14,055 per windshield | $17,455 per windshield.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-02-04 M7 Aerospace LP (Type Certificate Previously Held by Fairchild Aircraft Incorporated): Amendment 39-16577; Docket No. FAA-2011-0014 Directorate Identifier 2010-CE-066-AD.

Effective Date

(a) This AD is effective January 24, 2011.

Affected ADs

(b) None.

Applicability

(c) This AD applies to M7 Aerospace LP (type certificate previously held by Fairchild Aircraft Incorporated) Models SA26-AT, SA26-T, SA226-AT, SA226-T, SA226-T(B), SA226-TC, SA227-AC (C-26A), SA227-AT, SA227-BC (C-26A), SA227-CC, SA227-DC (C-26B), and SA227-TT airplanes, all serial numbers, that are certificated in any category.

Subject

(d) Joint Aircraft System Component (JASC)/Air Transport Association (ATA) of America Code 5610, Flight Compartment Windows.

Unsafe Condition

(e) This AD was prompted by reports from the windshield manufacturer of inner glass ply fracture. We are issuing this AD to detect and correct damage to the cockpit heated windshield, which could result in failure of the windshield with consequent rapid cabin decompression and loss of control of the airplane.

Compliance

(f) Comply with this AD within the compliance times specified, unless already done.

Inspection

(g) Within the next 21 days after January 24, 2011 (the effective date of this AD), inspect the cockpit heated windshields, part numbers 26-21126 and 27-19442, as applicable, for damage, e.g., delamination, glass shear, and interlayer cracking. Do the inspection following M7 Aerospace Service Bulletins 26-56-001, 226-56-011, 227-56-012, and CC7-56-009, all dated December 1, 2010, as applicable.

(h) At the compliance times specified in table 1 of this AD, repetitively inspect the cockpit heated windshield for damage, e.g., delamination, glass shear, and interlayer cracking. Do the inspections following M7 Aerospace Service Bulletins 26-56-001, 226-56-011, 227-56-012, and CC7-56-009, all dated December 1, 2010, as applicable.

Table 1—Repetitive Inspection Compliance Times
Category | If the installed cockpit heated windshield (new or repaired) has the following hours time-in-service (TIS) | Then repetitively inspect at intervals not-to-exceed
A | Less than 1,100 | Every 150 hours TIS until the windshield accumulates 1,100 hours TIS, at which time inspect according to Category B.
B | 1,100 to 5,000 | Every 100 hours TIS until the windshield accumulates 5,001 hours TIS, at which time inspect according to Category C.
C | More than 5,000 | Every 50 hours TIS.

(i) Before further flight after each inspection required in paragraphs (g) and (h) of this AD in which damage is found in the critical and semi-critical inspection areas, replace or repair the windshield as specified in M7 Aerospace Service Bulletins 26-56-001, 226-56-011, 227-56-012, and CC7-56-009, all dated December 1, 2010, as applicable.

(j) Within 30 days after each inspection required in paragraph (g) and (h) of this AD in which damage is found, report the results of the inspection to the FAA. Use the form (figure 1 of this AD) and submit it to the address specified in paragraph (n) of this AD.

Special Flight Permit

(k) Flights are limited to two pilot operations only. No single pilot operation allowed.

Paperwork Reduction Act Burden Statement

(l) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

AD 2011-02-04
Airplane Model Number/Serial Number:
Time-in-Service (TIS) of on cockpit heated windshield:
Inspection results:
Corrective Action Taken:
Any Additional Information (Optional):
Name:
Telephone and/or E-mail Address:
Date:
Send report to: Hung Nguyen, Aerospace Engineer, Fort Worth Airplane
Certification Office, FAA, 2601 Meacham Blvd., Fort Worth, TX 76137-0150;
phone: (817) 222-5155; fax: (817) 222-5960; e-mail: hung.v.nguyen@faa.gov.
Figure 1

Alternative Methods of Compliance (AMOCs)

(m)(1) The Manager, Fort Worth Airplane Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(n) For more information about this AD, contact Hung Nguyen, Aerospace Engineer, Fort Worth Airplane Certification Office, FAA, 2601 Meacham Blvd., Fort Worth, Texas 76137-0150; phone: (817) 222-5155; fax: (817) 222-5960; e-mail: hung.v.nguyen@faa.gov.

Material Incorporated by Reference

(o) You must use the service information contained in Table 2 of this AD to do the actions required by this AD, unless the AD specifies otherwise.

Table 2—All Material Incorporated by Reference
Document | Revision | Date
M7 Aerospace Service Bulletin 26-56-001 | N/A | December 1, 2010.
M7 Aerospace Service Bulletin 226-56-011 | N/A | December 1, 2010.
M7 Aerospace Service Bulletin 227-56-012 | N/A | December 1, 2010.
M7 Aerospace Service Bulletin CC7-56-009 | N/A | December 1, 2010.

(1) The Director of the Federal Register approved the incorporation by reference of the service information contained in Table 2 of this AD under 5 U.S.C. 552(a) and 1 CFR part 51.

(3) For service information identified in this AD, contact M7 Aerospace LP, 10823 NE Entrance Road, San Antonio, Texas 78216; telephone: (210) 824-9421; Internet: http://www.m7aerospace.com.

(4) You may review copies of the service information at the FAA, Small Airplane Directorate, 901 Locust St., Kansas City, Missouri 64106. For information on the availability of this material at the FAA, call (816) 329-2470.

(5) You may also review copies of the service information that is incorporated by reference at the National Archives and Records Administration (NARA). For information on the availability of this material at an NARA facility, call 202-741-6030, or go to http://www.archives.gov/federal_register/code_of_federal_regulations/ibr_locations.html.

Issued in Kansas City, Missouri, on January 5, 2011.
Earl Lawrence,
Manager, Small Airplane Directorate, Aircraft Certification Service.

[FR Doc. 2011-457 Filed 1-11-11; 8:45 am]

BILLING CODE 4910-13-P